DEPARTMENT OF COMMERCE

International Trade Administration

U.S. Department of Commerce Trade Finance Advisory Council

AGENCY: International Trade Administration, U.S. Department of Commerce.

ACTION: Notice of an Open Meeting.

SUMMARY: The U.S. Department of Commerce Trade Finance Advisory Council (TFAC) will hold its inaugural meeting on Friday, November 18, 2016, at the U.S. Department of Commerce Library, in Washington, DC. The meeting is open to the public with registration instructions provided below.

The TFAC was chartered on August 11, 2016, to advise the Secretary in identifying effective ways to help expand access to finance for U.S. exporters, especially small and medium-sized enterprises, and their foreign buyers. At the meeting, members will be sworn-in and will begin a discussion of the work they will undertake during their term. They will also be briefed by officials from the Department of Commerce and other agencies on major issues impacting this area. The final agenda will be posted on the Department of Commerce Web site for the Council at http://trade.gov/tfac/, at least one week in advance of the meeting.

DATES: Friday, November 18, 2016, from approximately 9:00 a.m. to 12:00 p.m. Eastern Standard Time (EST).

FOR FURTHER INFORMATION CONTACT: Ericka Ukrow, Designated Federal Officer, Office of Finance and Insurance Industries (OFII), International Trade Administration, U.S. Department of Commerce at (202) 482-0405; email: Ericka.Ukrow@trade.gov.

SUPPLEMENTARY INFORMATION:

I. Background

On July 25, 2016, the Secretary of Commerce established the TFAC pursuant to discretionary authority and in accordance with the Federal Advisory Committee Act, as amended, 5 U.S.C. App. The TFAC advises the Secretary of Commerce in identifying effective ways to help expand access to finance for U.S. exporters, especially small- and medium-sized enterprises (SMEs) and their foreign buyers. The TFAC also provides a forum to facilitate the discussion between a diverse group of stakeholders such as banks, non-bank financial institutions, other trade finance related organizations, and exporters, to gain a better understanding regarding current challenges facing U.S. exporters in accessing capital.

On November 18, 2016, the TFAC will hold its inaugural meeting. Members will be sworn-in, discuss the Council's operational structure, major challenges impacting the provision of trade finance as well as prospects to foster greater access to private sector financing for U.S. exporters, and key priorities to focus on during their term. Members will also hear from officials from the Department of Commerce and other agencies on the resources available to support our exporters in the trade finance area. The agenda may change to accommodate TFAC requirements. The final agenda will be posted on the Department of Commerce Web site for the Council http://trade.gov/tfac/ at least a week prior to the meeting.

II. Public Participation

The public is invited to submit written statements for the TFAC's meeting. Statements must be received by 5:00 p.m. EST, November 11, 2016 by either of the following methods: (a) Electronic Submission: Submit statements electronically to Ericka Ukrow, U.S. Department of Commerce Trade Finance Advisory Council Designated Federal Officer, via email to TFAC@trade.gov ; or (b) Paper Submissions: Send paper statements to Ericka Ukrow, U.S. Department of Commerce Trade Finance Advisory Council Designated Federal Officer, Room 18002, 1401 Constitution Avenue NW., Washington, DC 20230. Statements will be posted on the TFAC Web site without change, including any business or personal information provided such as names, addresses, email addresses, or telephone numbers. All statements received, including attachments and other supporting materials, are part of the public record and are subject to public disclosure. You should submit only information that you wish to make publicly available.

III. Meeting Minutes

Copies of TFAC meeting minutes will be available within 30 days following the meeting.

Dated: October 27, 2016.
Paul Thanos
Director, Office of Finance and Insurance Industries.

[FR Doc. 2016-26572 Filed 11-2-16; 8:45 am]

BILLING CODE P